DEPARTMENT OF JUSTICE

Antitrust Division

Notice Pursuant to the National Cooperative Research and Production Act of 1993—IMS Global Learning Consortium, Inc.

Notice is hereby given that, on October 18, 2007, pursuant to section 6(a) of the National Cooperative Research and Production Act of 1993, 15 U.S.C. 4301, et seq. (“the Act”), IMS Global Learning Consortium, Inc. has filed written notifications simultaneously with the Attorney General and the Federal Trade Commission disclosing changes in its membership. The notifications were filed for the purpose of extending the Act's provisions limiting the recovery of antitrust plaintiffs to actual damages under specified circumstances. Specifically, Icodeon Ltd., Cambridge, UNITED KINGDOM; Korea Education & Research Information Service (KERIS), Seoul, REPUBLIC OF KOREA; National Association of College Stores (NACS), Oberlin, OH; TIDIA Ae FAPESP Project, Sao Paulo, BRAZIL; and UOC—Universitat Oberta de Catalunya, Barcelona, SPAIN have been added as parties to this venture. Also, Apple Computer, Cupertino, CA has withdrawn as a party to this venture.

No other changes have been made in either the membership or planned activity of the group research project. Membership in this group research project remains open, and IMS Global Learning Consortium, Inc. intends to file additional written notifications disclosing all changes in membership.

On April 7, 2000, IMS Global Learning Consortium, Inc. filed its original notification pursuant to section 6(a) of the Act. The Department of Justice published a notice in the Federal Register pursuant to section 6(b) of the Act on September 13, 2000 (65 FR 55283).

The last notification was filed with the Department on August 7, 2007. A notice was published in the Federal Register pursuant to section 6(b) of the Act on September 11, 2007 (72 FR 51840).

Patricia A. Brink,
Deputy Director of Operations, Antitrust Division.

[FR Doc. 07-5898 Filed 11-30-07; 8:45 am]

BILLING CODE 4410-11-M